DEPARTMENT OF ENERGY

Federal Energy Regulatory Commission

[Docket No. IC08-521-001, FERC-521]

Commission Information Collection Activities, Proposed Collection; Comment Request; Submitted For OMB Review

May 6, 2008.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review of this information collection requirement. Any interested person may file comments directly with OMB and should address a copy of those comments to the Commission as explained below. The Commission received no comments in response to an earlier Federal Register notice of February 19, 2008 (73 FR 9108-09) and has made this notation in its submission to OMB.

DATES: Comments on the collection of information are due by June 9, 2008.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC08-521-001.

Documents filed electronically via the Internet must be prepared in the acceptable filing format and in compliance with the Federal Energy Regulatory Commission's submission guidelines. Complete filing instructions and acceptable filing formats are available at (http://www.ferc.gov/help/submission-guide/electronic-media.asp). To file the document electronically, access the Commission's Web site at http://www.ferc.gov/docs-filing/efiling.asp), and then follow the instructions for each screen. First time users will have to establish a user name and password. The Commission will send an automatic acknowledgement to the sender's e-mail address upon receipt of comments.

All comments may be viewed, printed or downloaded remotely via the Internet through FERC's homepage using the eLibrary link. For user assistance, contact ferconlinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-521 “Payments for Benefits from Headwater Improvements”.

2. Sponsor: Federal Energy Regulatory Commission.

3. Control No.: 1902-0087.

The Commission is now requesting that OMB approve with a three-year extension of the expiration date, with no changes to the existing collection. The information filed with the Commission is mandatory.

4. Necessity of the Collection of Information: The information is used by the Commission to implement the statutory provisions of section 10(f) of the Federal Power Act (FPA). The FPA authorizes the Commission to determine headwater benefits received by downstream hydropower project owners. Headwater benefits are the additional energy production possible at a downstream hydropower project resulting from the regulation of river flows by an upstream storage reservoir.

When the Commission completes a study of a river basin, it determines headwater benefits charges that will be apportioned among the various downstream beneficiaries. A headwater benefits charge, and the cost incurred by the Commission to complete an evaluation are paid by downstream hydropower project owners. In essence, the owners of non-federal hydropower power projects that directly benefit from a headwater(s) improvement must pay an equitable portion of the annual charges for interest, maintenance, and depreciation of the headwater project to the U.S. Treasury. The regulations provide for the apportionment of these costs between the headwater project and downstream projects based on a downstream energy gains and propose equitable apportionment methodology that can be applied to all river basins in which headwater improvements are built. The data the Commission requires owners of non-federal hydropower projects to file for determining annual charges is specified in 18 Code of Federal Regulations (CFR) Part 11.

5. Respondent Description: The Commission estimates that it will receive annually on average 3 filings per year.

6. Estimated Burden: 120 total hours, 3 respondents (average per year), 1 response per respondent, and .40 hours per response (average).

7. Estimated Cost Burden to respondents: The estimated total cost to respondents is $7,291. (120 hours ÷ 2080 × $126,384.)

Statutory Authority: Section 10(f) of the Federal Power Act, 16 U.S.C. 803.

Kimberly D. Bose,
Secretary.

[FR Doc. E8-10611 Filed 5-12-08; 8:45 am]

BILLING CODE 6717-01-P